ENVIRONMENTAL PROTECTION AGENCY

40 CFR Part 52

[EPA-R05-OAR-2007-1044, EPA-R05-OAR-2007-1133; FRL-8757-8]

Approval and Promulgation of Air Quality Implementation Plans; Illinois and Indiana; Finding of Attainment for 1-Hour Ozone for the Chicago-Gary-Lake County, IL-IN Area

AGENCY: Environmental Protection Agency (EPA).

ACTION: Final rule.

SUMMARY: EPA is approving a January 30, 2007, request from the Illinois Environmental Protection Agency (IEPA) that EPA find that the Illinois portion of the Chicago-Gary-Lake County, Illinois-Indiana (IL-IN) nonattainment area, has attained the revoked 1-hour ozone National Ambient Air Quality Standard (NAAQS). EPA is also approving an October 25, 2007, request from the Indiana Department of Environmental Management (IDEM) that EPA find that the Indiana portion of the Chicago-Gary-Lake County, IL-IN nonattainment area, has attained the revoked 1-hour ozone NAAQS. EPA proposed to approve both requests on July 7, 2008. We received three comments on our proposed rulemaking, which are addressed below.

DATES: This final rule is effective on January 29, 2009.

ADDRESSES: EPA has established a docket for this action under Docket ID Nos. EPA-R05-OAR-2007-1004 and EPA-R05-OAR-2077-1133. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Gilberto Alvarez, Environmental Scientist, at (312) 886-6143 before visiting the Region 5 office.

FOR FURTHER INFORMATION CONTACT: Gilberto Alvarez, Environmental Scientist, Criteria Pollutant Section, Air Programs Branch (AR-18J), Environmental Protection Agency, Region 5, 77 West Jackson Boulevard, Chicago, Illinois 60604, (312) 886-6143, alvarez.gilberto@epa.gov.

SUPPLEMENTARY INFORMATION: Throughout this document whenever “we,” “us,” or “our” is used, we mean EPA. This supplementary information section is arranged as follows:

I. What Did EPA Propose?

II. What Comments Did We Receive on the Proposed Action?

III. What Action Is EPA Taking?

IV. Statutory and Executive Order Reviews

I. What Did EPA Propose?

On January 30, 2007, IEPA requested that EPA find that the Illinois portion of the Chicago-Gary-Lake County, IL-IN nonattainment area, had attained the revoked 1-hour ozone NAAQS. On October 25, 2007, IDEM requested that EPA find that the Indiana portion of Chicago-Gary-Lake County, IL-IN nonattainment area, had attained the revoked 1-hour ozone NAAQS. On July 7, 2008, EPA proposed to approve the requests (73 FR 38353).

II. What Comments Did We Receive on the Proposed Action?

EPA received three comment letters in response to the proposed rulemaking.

Comment: The Indiana Steel Environmental Group submitted comments in support of our proposed action. It also stated its understanding that this action means that Lake and Porter Counties will not be subject to the requirement to implement contingency measures for failure to attain the ambient standard.

Response: EPA agrees with the commenter. A finding of attainment eliminates the requirement for a maintenance plan and contingency measures under Sections 107(d)(3) and 175A(d) of the Clean Air Act. Such measures would be required, however, in order for the area to be redesignated to attainment.

Comment: While IDEM was generally supportive of the proposal, it expressed disappointment that EPA did not address certain New Source Review issues in our action.

Response: EPA intends to address these issues in a separate Agency rulemaking which is currently under development.

Comment: Dominion Resources Services, Inc. requested that EPA reiterate that these attainment areas are not subject to fees under Section 185 of the Act, and would not be subject to such fees even if the areas were to lapse into nonattainment.

Response: EPA confirms that this action relieves Illinois and Indiana from having to develop a Section 185 rule for the subject areas, although the States are free to do so if they choose.

III. What Action Is EPA Taking?

EPA is approving a January 30, 2007, request from IEPA that EPA find that the Illinois portion of the Chicago-Gary-Lake County, IL-IN nonattainment area, attained the revoked 1-hour ozone NAAQS. EPA is also approving an October 25, 2007, request from IDEM that EPA find that Indiana portion of the Chicago-Gary-Lake County, IL-IN nonattainment area, attained the revoked 1-hour ozone NAAQS.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 2, 2009. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Ozone.

Dated: December 17, 2008.
Lynn Buhl,
Regional Administrator, Region 5.

40 CFR part 52 is amended as follows:

PART 52—[AMENDED]

1. The authority citation for part 52 continues to read as follows:

Authority: 42 U.S.C. 7401 et seq.

Subpart O—Illinois

2. Section 52.726 is amended by adding paragraph (gg) to read as follows:

§ 52.726 Control strategy: Ozone.

* * * * *

(gg) Approval—On January 30, 2007, the Illinois Environmental Protection Agency (IEPA) requested that EPA find that the Illinois portion of the Chicago-Gary-Lake County, Illinois-Indiana (IL-IN) nonattainment area, attained the revoked 1-hour ozone National Ambient Air Quality Standard (NAAQS). After review of this submission, EPA approves this finding.

Subpart P—Indiana

3. Section 52.777 is amended by adding paragraph (kk) to read as follows:

§ 52.777 Control strategy: Photochemical oxidants (hydrocarbons).

* * * * *

(kk) Approval—On October 25, 2007, the Indiana Department of Environmental Management (IDEM) requested that EPA find that the Indiana portion of the Chicago-Gary-Lake County, IL-IN nonattainment area, has attained the revoked 1-hour ozone NAAQS. After review of this submission, EPA approves this finding.

[FR Doc. E8-30812 Filed 12-29-08; 8:45 am]

BILLING CODE 6560-50-P